ENVIRONMENTAL PROTECTION AGENCY

[EPA-HQ-OAR-2020-0627; FRL-12453-01-OMS]

Agency Information Collection Activities; Submission to the Office of Management and Budget for Review and Approval; Comment Request; NSPS for Petroleum Refineries (Renewal)

AGENCY: Environmental Protection Agency (EPA).

ACTION: Notice.

SUMMARY: The Environmental Protection Agency (EPA) has submitted an information collection request (ICR), NSPS for Petroleum Refineries (EPA ICR Number 1054.15, OMB Control Number 2060-0022) to the Office of Management and Budget (OMB) for review and approval in accordance with the Paperwork Reduction Act. This is a proposed extension of the ICR, which is currently approved through December 31, 2024. Public comments were previously requested via the Federal Register on May 18, 2023 during a 60-day comment period. This notice allows for an additional 30 days for public comments.

DATES: Comments may be submitted on or before January 9, 2025.

ADDRESSES: Submit your comments, referencing Docket ID Number EPA-HQ-OAR-2020-0627, to EPA online using https://www.regulations.gov/ (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: This is a proposed extension of the ICR, which is currently approved through December 31, 2024. An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for the regulations published at 40 CFR part 60, subpart J were proposed on June 11, 1973; promulgated on March 8, 1974; and amended on both September 12, 2012, and December 1, 2015. These regulations apply to affected facilities at petroleum refineries that were constructed, modified or reconstructed on or before May 14, 2007. The affected sources are: (1) fluid catalytic cracking unit (FCCU) catalyst regenerator or fuel gas combustion device (FGCD) other than a flare that commenced construction, reconstruction or modification after June 11, 1973 and on/or before May 14, 2007; (2) FGCD that is also a flare that commenced construction, reconstruction or modification after June 11, 1973 and on/or before June 24, 2008; or (3) any Claus sulfur recovery plant with a design capacity of more than 20 long tons per day sulfur feed which commenced construction, reconstruction or modification after October 4, 1976 and on/or before May 14, 2007. These regulations also apply to flares which commenced construction, modification, or reconstruction on/or before June 24, 2008. At the time of this ICR renewal, all refinery flares are subject to the NSPS Subpart Ja requirements. This information is being collected to assure compliance with 40 CFR part 60, subpart J.

In general, all NSPS standards require initial notifications, performance tests, and periodic reports by the owners/operators of the affected facilities. They are also required to maintain records of the occurrence and duration of any startup, shutdown, or malfunction in the operation of an affected facility or any period during which the monitoring system is inoperative. These notifications, reports, and records are essential in determining compliance, and are required of all affected facilities subject to NSPS.

Form Numbers: None.

Respondents/affected entities: Petroleum refineries.

Respondent's obligation to respond: Mandatory (40 CFR part 60, subpart J).

Estimated number of respondents: 130 (total).

Frequency of response: Semiannually.

Total estimated burden: 13,800 hours (per year). Burden is defined at 5 CFR 1320.3(b).

Total estimated cost: $2,830,000 (per year), includes $1,090,000 annualized capital or operation & maintenance costs.

Changes in the Estimates: There is no change in burden from the most recently approved ICR as currently identified in the OMB Inventory of Approved Burdens. This is due to two considerations. First, the regulations have not changed over the past three years and are not anticipated to change over the next three years. Second, the growth rate for this industry is very low or non-existent, so there is no significant change in the overall burden. There is an increase in capital and operation & maintenance costs due to an adjustment to increase from 2005 to 2022 $ using the CEPCI Equipment Cost Index. Capital and operation & maintenance costs were previously adjusted from 2005 to 2019 $.

Courtney Kerwin,
Director, Information Engagement Division.

[FR Doc. 2024-29069 Filed 12-10-24; 8:45 am]

BILLING CODE 6560-50-P